FEDERAL COMMUNICATIONS COMMISSION

47 CFR Part 54

[WC Docket Nos. 10-90 and 05-337; DA 12-1777]

Data Specifications for Collecting Study Area Boundaries

AGENCY: Federal Communications Commission.

ACTION: Final rule; announcement of effective date.

SUMMARY: In this document, the Federal Communications Commission (Commission) announces that the Office of Management and Budget (OMB) has approved, until July 31, 2013, the information collection associated with the Commission's Connect America Fund; High-Cost Universal Service Support, Report and Order, (Order), released on November 6, 2012. The Commission submitted a request for approval of a new collection under control number 3060-1181 to the OMB for review and approval, as required by the Paperwork Reduction Act (PRA) of 1995 (44 U.S.C. 3501-3520). This notice is consistent with the Order, which stated that the Commission would publish a document in the Federal Register announcing the effective date of those rules once it receives OMB approval.

DATES: Paragraph 16 and Appendix A of document DA 12-1777, published at 78 FR 5750, January 28, 2013, are effective February 27, 2013.

FOR FURTHER INFORMATION CONTACT: Chelsea Fallon, Assistant Division Chief, Wireline Competition Bureau, at (202) 418-7991.

SUPPLEMENTARY INFORMATION: This document announces that, on January 23, 2013, OMB approved, for a period of six months, the information collection requirements contained in the Commission's Order, FCC 12-1777, published at 78 FR 5750, January 28, 2013. The OMB Control Number is 3060-1181. The Commission publishes this notice as an announcement of the effective date of paragraph 16 and Appendix A of document DA 12-1777. If you have any comments on the burden estimates listed below, or how the Commission can improve the collections and reduce any burdens caused thereby, please contact Judith Boley-Herman, Federal Communications Commission, Room 1-B441, 445 12th Street SW., Washington, DC 20554. Please include the OMB Control Number, 3060-1181, in your correspondence. The Commission also will accept comments via email. Please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 23, 2013, for the information collection requirements contained in paragraph 16 and Appendix A of document DA 12-1777.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1181.

The foregoing notice is required by the Paperwork Reduction Act of 1995, Public Law 104-13, October 1, 1995, and 44 U.S.C. 3507.

The total annual reporting burdens and costs for the respondents are as follows:

OMB Control Number: 3060-1181.

OMB Approval Date: January 23, 2013.

OMB Expiration Date: July 31, 2013.

Title: Study Area Boundary Data Reporting in Esri Shapefile Format, DA 12-1777.

Form Number: N/A.

Respondents: Incumbent local exchange carriers, and state regulatory entities.

Number of Respondents and Responses: 1,443 respondents; 1,443 responses.

Estimated Time per Response: 26 hours.

Frequency of Response: Annually if changes to study area boundaries; biannually for recertification or previously submitted data.

Obligation to Respond: Required. Statutory authority for this information collection is contained in 47 U.S.C. 254(b).

Total Annual Burden: 7,924 hours for in-house work for large incumbent local exchange carriers

Total Annual Cost: $705,935.00 contracting costs for small incumbent local exchange carriers.

Nature and Extent of Confidentiality: The Commission is not requesting that respondents submit confidential information to the Commission. Also, respondents may request materials or information submitted to the Commission be withheld from public inspection under 47 CFR 0.459 of the Commission's rules.

Needs and Uses: In November 2012, the Wireline Competition Bureau of the Federal Communications Commission adopted a Report and Order (Order), in WC Docket No. 10-90; WC Docket No. 05-337; DA 12-1777, 78 FR 5750, Connect America Fund; High-Cost Universal Service Support.

The Order adopts data specifications for collecting study area boundaries for purposes of implementing various reforms adopted as part of the USF/ICC Transformation Order, 76 FR 73830, November 29, 2011. In the USF/ICC Transformation FNPRM, 76 FR 78384, December 16, 2011, the Commission sought comment on a process to reduce support where such an unsubsidized competitor offers voice and broadband service to a substantial majority, but not 100 percent of the study area. Study area boundaries are needed to determine whether unsubsidized competitors offer service within all or a portion of an incumbent's study area

The Order requires incumbent local exchange carriers (LECs) to submit esri shapefiles of their study area boundaries, with each submitted shapefile representing a single study area in each state that the incumbent LEC serves. The shapefile for each study area must depict each exchange within the study area as a closed, non-overlapping polygon. Each exchange-area polygon must constitute one record in the shapefile and must contain associated data with certain attributes used to identify the exchange, such as the exchange name and CLLI (Common Language Location Identifier) code. The Bureau will collect study area boundary data at the exchange level so that it can distinguish those exchanges that are subject to “frozen” support levels from those that are not, and so that the data can be updated to reflect any exchanges that have been transferred from one incumbent LEC to another.

The Order finds that collecting study area boundary data in an esri shapefile format best balances the need for accurate and timely data with the goal of minimizing burdens on providers. The Order states that the esri shapefile is the best among possible data formats. Since its introduction in the 1990s, the esri shapefile has become the industry standard for storing, depicting, and analyzing spatial data. As a result, there are multiple geographic information system (GIS) platforms capable of creating and managing esri shapefiles, and multiple software programs can convert spatial data stored in other formats (such as MapInfo) to an esri shapefile format. Incumbent LECs that do not already have esri shapefiles of their study area boundaries may either use software and information technology, and/or rely on the expertise of consultants, to develop a shapefile based on the presumably known locations of their physical plant and their customers. Thus, the benefits gained by requiring incumbent LECs to provide and verify esri shapefiles warrant the potential burdens imposed. Incumbent LECs or other entities are not expected to conduct physical surveys in order to produce the degree of accuracy required by the data specification. Incumbent LECs reasonably can be expected to know where they offer services and thus should be able to create and submit an esri shapefile to the degree of accuracy required based largely on existing information.

State entities are well situated to assist incumbent LECs with their responsibilities under this R&O. Involvement of state entities that undertake or assist with this data collection effort could reduce the burden on incumbent LECs and on Commission staff, particularly because some states already have digitized service territory boundaries. State entities wishing to submit such data should notify the Commission in writing of their intention to do so and submit that notice to WC Docket No. 10-90 via the Commission's Electronic Comment Filing System (ECFS). The Bureau will release a Public Notice identifying the deadlines for these notices (as well as the deadlines for the shapefile submissions and incumbent LEC certifications). In cases where a state entity uploads data to the Commission-sponsored Web site on behalf of one or more incumbent LECs, each incumbent LEC whose data are submitted by the state must log into the Web site to review the shapefile. If the incumbent LEC has a reasonable basis to conclude the shapefile is correct, the incumbent LEC can certify and submit the data using the same web interface. The reporting obligation set forth in the Order ultimately rests with incumbent LECs; state entities may not certify as to the accuracy of the data on behalf of incumbent LECs. If the incumbent LEC cannot certify that the data submitted by the state entities are correct, the incumbent LEC must so notify the Bureau and upload corrected data, either on its own or in conjunction with the state entity that filed it. The incumbent LEC can then certify that the study area boundary data are accurate.

After reviewing and, if necessary, correcting the study area boundary data submitted by itself or a state entity, each incumbent LEC must certify the accuracy of the data. An official of the firm, such as a corporate officer, managing partner, or sole proprietor, must provide an electronic signature certifying that he or she has examined the study area boundary shapefile and that, to the best of his or her knowledge, information, and belief, the data contained in the shapefile are accurate and correct. The certifying official may be different from the GIS specialist or other individual who developed the study area boundary shapefile, and the web interface will allow filers to enter contact information for both the certifying official and the individual most knowledgeable about the spatial data.

Once the shapefiles have been submitted and certified, the Bureau will review the study area boundaries and resolve any voids and overlaps. Overlap areas would be those shown to be served by more than one incumbent LEC, while void areas would be those shown to be served by no incumbent LEC. The Bureau will attempt to distinguish unpopulated void areas from populated void areas that are likely to be served by some incumbent LEC, in which case an error in the submitted data may need to be resolved. The Bureau may also seek help from state commissions to resolve gaps, voids, and overlap issues. During review, if boundary overlaps or void areas are found in the submitted boundary data, the Bureau will contact the filer(s) to resolve such issues. Once these issues are resolved, the Bureau will ask incumbent LECs to recertify the new, corrected boundaries. When a complete set of the reconciled boundaries has been compiled the study area boundary data will be published.

Incumbent LECs must provide updated data when their study area boundaries change. Incumbent LECs and/or state entities must submit updated data by March 15 of each year, beginning the year following the initial data submissions, showing any changes made by December 31 of the previous year. The incumbent LEC is responsible for making any necessary changes and for filing the revised shapefile. The changes cannot be made using the web interface itself; incumbent LECs will need to modify the shapefile. However, incumbent LECs can upload a revised shapefile to the same Web site used for the original filing. In addition, all incumbent LECs must recertify their study area boundary data every two years. Filers will need to examine, through the web interface described below, the boundary data previously submitted, and then either certify that they are correct or submit revised data.

In the near future, the Bureau will issue a Public Notice providing detailed instructions and announcing the deadline for the submission of data and providing further filing information. The Commission plans to submit information required to obtain OMB review and approval to extend approval of this collection.

Federal Communications Commission.
Lisa Gelb,
Deputy Bureau Chief, Wireline Competition Bureau.

[FR Doc. 2013-03328 Filed 2-12-13; 8:45 am]

BILLING CODE 6712-01-P